DEPARTMENT OF THE INTERIOR

Bureau of Land Management

[WY-920-09-1320-EL, WYW177016]

Coal Lease Exploration License, WY

AGENCY: Bureau of Land Management, Interior.

ACTION: Notice of Invitation for Coal Exploration License, Kiewit Mining Properties Inc., WYW177016, Wyoming.

SUMMARY: Pursuant to section 2(b) of the Mineral Leasing Act of 1920, as amended by section 4 of the Federal Coal Leasing Amendments Act of 1976, 90 Stat. 1083, 30 U.S.C. 201(b), and to the regulations adopted as 43 CFR 3410, all interested parties are hereby invited to participate with Kiewit Mining Properties Inc. on a pro rata cost sharing basis in its program for the exploration of coal deposits owned by the United States of America in the following-described land in Campbell County, WY:

T. 52 N., R. 72 W., 6th P.M., Wyoming

Sec. 7: Lots 13-17;

Sec. 8: Lots 9-12;

Sec. 9: Lots 10-15;

Sec. 18: Lots 8, 9, 16, 17;

Sec. 19: Lots 8, 9, 16;

T. 52 N., R. 73 W., 6th P.M., Wyoming

Sec. 12: Lots 9, 16;

Sec. 13: Lots 1, 8, 9, 16;

Sec. 24: Lots 1, 8, 9, 16.

Containing 1393.54 acres, more or less.

DATES: Any party electing to participate in this exploration program must send written notice to both the Bureau of Land Management and Kiewit Mining Properties Inc. as provided in the ADDRESSES section below, which must be received within 30 days after publication of this Notice of Invitation in the Federal Register.

ADDRESSES: Copies of the exploration plan are available for review during normal business hours in the following offices (serialized under number WYW177016): Bureau of Land Management, Wyoming State Office, 5353 Yellowstone Road, P.O. Box 1828, Cheyenne, WY 82003; and, Bureau of Land Management, Casper Field Office, 2987 Prospector Drive, Casper, WY 82604. The written notice should be sent to the following addresses: Kiewit Mining Properties Inc., Attn: Greg Todd, Project Engineer, Buckskin Mining Co., P.O. Box 3027, Gillette, WY 82717-3027, and the Bureau of Land Management, Wyoming State Office, Branch of Solid Minerals, Attn: Julie Weaver, P.O. Box 1828, Cheyenne, WY 82003.

SUPPLEMENTARY INFORMATION: All of the coal in the above-described land consists of unleased Federal coal within the Powder River Basin Known Coal Leasing Area. The purpose of the exploration program is to obtain geological and other pertinent data concerning the coal deposits.

This notice of invitation will be published in News-Record of Gillette, WY once each week for two consecutive weeks beginning the week of July 7, 2008, and in the Federal Register.

The foregoing is published in the Federal Register pursuant to 43 CFR 3410.2-1(c)(1).

Dated: June 24, 2008.
Larry Claypool,
Deputy State Director, Minerals and Lands.

[FR Doc. E8-14853 Filed 7-3-08; 8:45 am]

BILLING CODE 4310-22-P